DEPARTMENT OF COMMERCE

Submission for OMB Review; Comment Request

The Department of Commerce will submit to the Office of Management and Budget (OMB) for clearance the following proposal for collection of information under the provisions of the Paperwork Reduction Act.

Agency: U.S. Census Bureau.

Title: National Sample Survey of Registered Nurses.

OMB Control Number: 0607-####.

Form Number(s): NSSRN.

Type of Request: OMB approval of new collection of information.

Number of Respondents: 65,000.

Average Hours per Response: 0.4 (Registered Nurses) 0.5 (Nurse Practitioners).

Burden Hours: 28,600.

Needs and Uses: Sponsored by the U.S. Department of Health and Human Services' (HHS) Health Resources and Services Administration's (HRSA) National Center for Health Workforce Analysis (NCHWA), the National Sample Survey of Registered Nurses (NSSRN) is designed to obtain the necessary data to determine the characteristics and distribution of Registered Nurses (RNs) throughout the United States, as well as emerging patterns in their employment characteristics. These data will provide the means for the evaluation and assessment of the evolving demographics, educational qualifications, and career employment patterns of RNs.

The Census Bureau will request survey participation from 100,000 RNs via one of two modes: Web survey or paper questionnaire. Half of respondents will receive a letter invitation with the Web URL and login ID included in the letter. The other half of respondents will be mailed a paper questionnaire with the Web URL and login ID included in the questionnaire package. Those RNs that receive a paper questionnaire in the first mailing will be randomized.

The 2018 NSSRN will include multiple contact strategy experiments to reduce both follow-up costs and nonresponse bias. There will be a non-monetary incentive experiment in the first mailing. Approximately half of the sample will be mailed an inscribed syringe pen and lanyard for the first contact attempt. Receiving a syringe pen and lanyard were discussed with the members of the nursing workforce and the feedback was that syringe pens are common in the nursing field due to the nature of the occupation. The syringe pen and lanyard will be experimentally tested again in the second follow-up mailing with a segment of the non-responding sampled RNs/NPs from the control group in strategy initial mailing. Half of the non-respondents will be mailed a syringe pen and lanyard.

Additionally, the 2018 NSSRN will include an experiment to test the efficacy of an infographic in the third contact attempt. Fifty percent of the RN sample will be randomly assigned the treatment group. Lastly, there will be logos of the several nursing groups that endorse the NSSRN. Higher response early in data collection can reduce follow-up costs and nonresponse.

Affected Public: Nurses, researchers, and policymakers.

Frequency: This 2018 collection is the first administration of the NSSRN since the redesign and the Bureau of the Census collecting the data. It is expected that this will be collected every four years, with a new sample drawn for each administration.

Respondent's Obligation: Voluntary.

Legal Authority: Census Authority: 13 U.S.C. Section 8(b), HRSA NCHWA Authority: Public Health Service Act 42 U.S.C. Section 294n(b)(2)(A) and 42 U.S.C. Section 295k(a)-(b).

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental PRA Lead, Office of the Chief Information Officer.

[FR Doc. 2017-25312 Filed 11-21-17; 8:45 am]

BILLING CODE 3510-07-P